Proclamation 9363 of October 30, 2015

National Apprenticeship Week, 2015

By the President of the United States of America

A Proclamation

At the heart of our Nation's promise lies a simple truth: If you work hard you can get ahead, earn a decent-paying job, and secure a brighter future for yourself and your family. To make this promise real, our economy has to work for everyone, and that begins with providing all our people with the tools and resources they need to utilize their unique talents to contribute to our country's success. Apprenticeships offer this opportunity, and over 430,000 Americans participate in these programs today. During National Apprenticeship Week, we recognize the ways apprenticeships foster innovation and prosperity, and we recommit to encouraging and supporting those who offer and partake in them.

Without the skills to get new, higher-wage jobs, and without the knowledge to adapt to new machinery, systems, technology, and techniques, the American worker could fall behind. Apprenticeships help people upgrade their skills and keep pace with the demands of the 21st century. Today, in part thanks to strong cooperation between labor and management, 87 percent of apprentices find employment after completing their program, and their average starting wage is above $50,000. And over the course of their lifetimes, workers who complete an apprenticeship on the job may earn hundreds of thousands of dollars more than their peers who do not. According to multiple studies, the payout is good for employers, too—they see significant returns in the form of increased productivity, reduced waste, and greater innovation.

Across America, employers, educators, labor leaders, and elected officials are joining together to encourage and support apprenticeships. Businesses are preparing workers for jobs in advanced manufacturing, information technology, health care, and other industries, while unions are helping their members secure new and more gainful employment. Hundreds of our Nation's colleges are awarding credit toward a degree for completing an apprenticeship program. And State and local governments in every corner of our country have been working to help America succeed by investing in programs to train our workers for the jobs of tomorrow.

At the Federal level, my Administration is committed to enabling hardworking people to earn and learn at the same time by supporting job-driven training initiatives like apprenticeships. Today, 55,000 more apprenticeship positions are available than there were at the start of 2014. To build on this progress, we awarded $175 million in grants to 46 apprenticeship programs around America. This investment will provide training opportunities for 34,000 new apprentices over the next 5 years, ensure apprenticeships are available to diverse and historically underrepresented populations, and provide a framework for apprenticeship opportunities to grow. Earlier this year, we hosted the White House Summit on ApprenticeshipUSA, bringing together over 140 employers, labor and education organizations, community-based groups, and others to recognize their commitment and to generate the best ideas on how to expand these programs. Additionally, I urged the Congress to create a $2 billion Apprenticeship Training Fund to double the number of apprentices in America, and I have called on businesses to offer more educational benefits and paid apprenticeships to their employees regardless of their level of education.

Our country thrives when all our citizens play a role in driving it forward. If we create good jobs and help workers get the skills they need to succeed in those jobs, we can restore the link between hard work and growing opportunity for every American. During National Apprenticeship Week, let us support and encourage apprenticeship programs that will help rebuild our middle class, and let us rededicate ourselves to educating more of our people, retraining our workforce, and renewing our Nation's promise to put the American dream within the reach of the determined.

NOW, THEREFORE, I, BARACK OBAMA, President of the United States of America, by virtue of the authority vested in me by the Constitution and the laws of the United States, do hereby proclaim November 1 through November 7, 2015, as National Apprenticeship Week. I urge the Congress, State and local governments, educational institutions, industry and labor leaders, and all Americans to support apprenticeship programs in the United States and to raise awareness of their contributions to our country.

IN WITNESS WHEREOF, I have hereunto set my hand this thirtieth day of October, in the year of our Lord two thousand fifteen, and of the Independence of the United States of America the two hundred and fortieth.

[FR Doc. 2015-28308

Filed 11-3-15; 11:15 am]

Billing code 3295-F6-P